DEPARTMENT OF TRANSPORTATION

Federal Aviation Administration

14 CFR Part 25

[Docket No. FAA-2002-11346; Amendment No. 25-110]

RIN 2120-AH38

Lower Deck Service Compartments on Transport Category Airplanes; Correction

AGENCY: Federal Aviation Administration (FAA), DOT.

ACTION: Final rule; correction.

SUMMARY: This document makes corrections to the final rule published in the Federal Register on June 19, 2003. That rule amended the airworthiness standards for transport category airplanes concerning lower deck service compartments.

EFFECTIVE DATE: This correction is effective on August 8, 2003.

FOR FURTHER INFORMATION CONTACT: Jayson Claar, telephone (425) 227-2194.

SUPPLEMENTARY INFORMATION:

Correction

In the final rule FR Doc. 03-15532, published on June 19, 2003, (68 FR 36880), make the following corrections:

1. On page 36880, in column 1 in the heading section, beginning on line 4, correct “Amendment No. 110” to read “Amendment No. 25-110''.

2. On page 36883, in the third column, on the first line, correct the word “surface” to read “service.”

Issued in Washington, DC on August 4, 2003.
Donald P. Byrne,
Assistant Chief Counsel for Regulations.

[FR Doc. 03-20283 Filed 8-7-03; 8:45 am]

BILLING CODE 4910-13-U